NUCLEAR REGULATORY COMMISSION

[Docket No. 50-182 EA-07-160]

In the Matter of Purdue University (Purdue University Research Reactor); Order Modifying Facility Operating License No. R-87

I

Purdue University (the licensee) is the holder of Facility Operating License No. R-87 (the license) issued on August 16, 1962, by the U.S. Atomic Energy Commission, and subsequently renewed on August 8, 1988, by the U.S. Nuclear Regulatory Commission (the NRC or the Commission). The license authorizes operation of Purdue University Research Reactor (the facility) at a power level up to 1 kilowatt thermal. The facility is a research reactor located on the campus of Purdue University, in the city of West Lafayette, Tippecanoe County, Indiana. The mailing address is Radiation Laboratories, Purdue University, Nuclear Engineering Building, 400 Central Drive, West Lafayette, IN 47907-2017.

II

Title 10 of the Code of Federal Regulations (10 CFR) Section 50.64, limits the use of high-enriched uranium (HEU) fuel in domestic non-power reactors (research and test reactors) (see 51 FR 6514). The regulation, which became effective on March 27, 1986, requires that if Federal Government funding for conversion-related costs is available, each licensee of a non-power reactor authorized to use HEU fuel shall replace it with low-enriched uranium (LEU) fuel acceptable to the Commission unless the Commission has determined that the reactor has a unique purpose. The Commission's stated purpose for these requirements was to reduce, to the maximum extent possible, the use of HEU fuel in order to reduce the risk of theft and diversion of HEU fuel used in non-power reactors.

Paragraphs 50.64(b)(2)(i) and (ii) require that a licensee of a non-power reactor: (1) Not acquire more HEU fuel if LEU fuel that is acceptable to the Commission for that reactor is available when the licensee proposes to acquire HEU fuel and (2) replace all HEU fuel in its possession with available LEU fuel acceptable to the Commission for that reactor in accordance with a schedule determined pursuant to 10 CFR 50.64(c)(2).

Paragraph 50.64(c)(2)(i) requires, among other things, that each licensee of a non-power reactor authorized to possess and to use HEU fuel develop and submit to the Director of the Office of Nuclear Reactor Regulation (Director) by March 27, 1987, and at 12-month intervals thereafter, a written proposal for meeting the requirements of the rule. The licensee shall include in its proposal a certification that Federal Government funding for conversion is available through the U.S. Department of Energy or other appropriate Federal agency and a schedule for conversion, based upon availability of replacement fuel acceptable to the Commission for that reactor and upon consideration of other factors such as the availability of shipping casks, implementation of arrangements for available financial support, and reactor usage.

Paragraph 50.64(c)(2)(iii) requires the licensee to include in the proposal, to the extent required to effect conversion, all necessary changes to the license, to the facility, and to licensee procedures. This paragraph also requires the licensee to submit supporting safety analyses in time to meet the conversion schedule.

Paragraph 50.64(c)(2)(iii) also requires the Director to review the licensee proposal, to confirm the status of Federal Government funding, and to determine a final schedule, if the licensee has submitted a schedule for conversion.

Section 50.64(c)(3) requires the Director to review the supporting safety analyses and to issue an appropriate enforcement order directing both the conversion and, to the extent consistent with protection of public health and safety, any necessary changes to the license, the facility, and licensee procedures. In the Federal Register notice of the final rule (51 FR 6514), the Commission explained that in most, if not all, cases, the enforcement order would be an order to modify the license under 10 CFR 2.204 (now 10 CFR 2.202).

Section 2.309 states the requirements for a person whose interest may be affected by any proceeding to initiate a hearing or to participate as a party.

III

On August 13, 2006, as supplemented on May 3, 2007, the licensee submitted its conversion proposal. The NRC staff is in the process of reviewing the conversion proposal. On May 25, 2007, the licensee submitted an additional letter as part of its conversion proposal, which indicated that early approval to changes to the uranium-235 possession limit in its license were needed to support the proposed schedule for conversion to LEU fuel. The receipt and possession, but not use in the reactor, of the LEU fuel are required by the licensee at this time to assemble the fuel elements in order to meet the proposed timely conversion. The LEU fuel contains the uranium-235 isotope at an enrichment of less than 20 percent. The NRC staff reviewed the licensee's proposal and the requirements of 10 CFR 50.64, and has determined that the public health and safety and common defense and security require the licensee to receive and possess the LEU fuel prior to the conversion. This is necessary so the LEU fuel elements may be prepared to convert the reactor from HEU fuel in accordance with the schedules planned by the Department of Energy to support U.S. non-proliferation policies and the licensee to support its academic mission.

IV

Accordingly, pursuant to Sections 51, 53, 57, 101, 104, 161b, 161i, and 161o of the Atomic Energy Act of 1954, as amended, and to Commission regulations in 10 CFR 2.202 and 10 CFR 50.64, It is hereby ordered that:

Facility Operating License No. R-87 is modified by adding the following license condition:

2.B.(4) Pursuant to the Act and 10 CFR Part 70, “Domestic Licensing of Special Nuclear Material,” to receive and possess, but not use in the reactor, in addition to the amount specified under License Condition 2.B.(2), up to 4.0 kilograms of contained uranium-235 in the form of reactor fuel, at enrichments less than 20 percent.

This Order will be effective 20 days after the date of publication of this Order in the Federal Register.

V

Pursuant to the Atomic Energy Act of 1954, as amended, any person adversely affected by this Order may submit an answer to this Order, and may request a hearing on this Order, within 20 days of the date of this Order. Any answer or request for a hearing shall set forth the matters of fact and law on which the person adversely affected, relies and the reasons why the Order should not have been issued. Any answer or request for a hearing shall be filed: (1) By first class mail addressed to the Office of the Secretary, U.S. Nuclear Regulatory Commission, Washington, DC 20555-0001, Attention: Rulemaking and Adjudications Staff; or (2) by courier, express mail, and expedited delivery services to the Office of the Secretary, Sixteenth Floor, One White Flint North, 11555 Rockville Pike, Rockville, Maryland, 20852, Attention: Rulemaking and Adjudications Staff. Because of possible delays in delivery of mail to the United States Government Offices, it is requested that answers and/or requests for hearing be transmitted to the Secretary of the Commission either by e-mail addressed to the Office of the Secretary, U.S. Nuclear Regulatory Commission, HEARINGDOCKET@NRC.GOV; or by facsimile transmission addressed to the Office of the Secretary, U.S. Nuclear Regulatory Commission, Washington, DC, Attention: Rulemakings and Adjudications Staff at 301-415-1101 (the verification number is 301-415-1966). Copies of the request for hearing must also be sent to the Director, Office of Nuclear Reactor Regulation and to the Assistant General Counsel for Materials Litigation and Enforcement, Office of the General Counsel, with both copies addressed to the U.S. Nuclear Regulatory Commission, Washington, DC 20555-0001, and the NRC requests that a copy also be transmitted either by facsimile transmission to 301-415-3725 or by e-mail to OGCMailCenter@nrc.gov.

If a person requests a hearing, he or she shall set forth in the request for a hearing with particularity the manner in which his or her interest is adversely affected by this Order and shall address the criteria set forth in 10 CFR 2.309.

If a hearing is requested by a person whose interest is adversely affected, the Commission shall issue an Order designating the time and place of any hearing. If a hearing is held, the issue to be considered at such hearing shall be whether this Order should be sustained.

In accordance with 10 CFR 51.10(d) this Order is not subject to Section 102(2) of the National Environmental Policy Act, as amended. The NRC staff notes, however, that with respect to environmental impacts associated with the changes imposed by this Order as described in the safety evaluation, the changes would, if imposed by other than an Order, meet the definition of a categorical exclusion in accordance with 10 CFR 51.22(c)(9). Thus, pursuant to either 10 CFR 51.10(d) or 51.22(c)(9), no environmental assessment nor environmental impact statement is required.

For further information see the letter from the licensee dated May 25, 2007 (Agencywide Documents Access and Management System (ADAMS) Accession No. ML071500054), the application for conversion and safety analysis report (ADAMS Accession No. ML062400495 and ML070920272), the NRC staff's request for additional information (ADAMS Accession No. ML070680273), the licensee's reply (ADAMS Accession No. ML071410299) and the cover letter to the licensee and the staff's safety evaluation dated June 21, 2007 (ADAMS Accession No. ML071550409), available for public inspection at the Commission's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who have problems in accessing the documents in ADAMS should contact the NRC PDR reference staff by telephone at 1-800-397-4209 or 301-415-4737 or by e-mail to pdr@nrc.gov.

Dated this 21st day of June 2007.
For the Nuclear Regulatory Commission.
James T. Wiggins,
Acting Director, Office of Nuclear Reactor Regulation.

[FR Doc. E7-12565 Filed 6-27-07; 8:45 am]

BILLING CODE 7590-01-P